DEPARTMENT OF TRANSPORTATION

Federal Highway Administration

Environmental Impact Statement: Cameron County, TX

AGENCY: Federal Highway Administration (FHWA), DOT.

ACTION: Notice of Intent (NOI).

SUMMARY: FHWA is issuing this notice to advise the public that an Environmental Impact Statement (EIS) will be prepared for the proposed South Padre Island Second Access project in Cameron County, Texas. Publication of this Notice of Intent (NOI) will serve to rescind a previous NOI published in July 2003 for the same project. The proposed project would link State Highway (SH) 100 on the mainland with Park Road (PR) 100 on South Padre Island. Currently, vehicular access to South Padre Island is limited to the Queen Isabella Memorial Causeway connecting the City of Port Isabel and the Town of South Padre Island. The proposed project would provide a second connection from the Texas mainland to South Padre Island in Cameron County, Texas. The proposed project would consist of construction predominantly on new right-of-way.

FOR FURTHER INFORMATION CONTACT: Donald E. Davis, District Engineer, Federal Highway Administration, Texas Division, 300 East 8th Street, Room 826, Austin, Texas 78701, Telephone (512) 536-5960.

SUPPLEMENTARY INFORMATION: The FHWA, in cooperation with the Texas Department of Transportation (TxDOT) and the Cameron County Regional Mobility Authority (CCRMA) is preparing an EIS for the proposed project which would involve the construction of a second access between SH 100 and PR 100. The amount of additional right-of-way to be acquired would depend upon the alternative selected and is not known at this time.

The proposed project will consider several alternatives intended to satisfy the identified need and purpose. The current purpose is emergency evacuation, economic development, and to enhance safety and mobility. The alternatives will include the no-build alternative, Transportation System Management/Transportation Demand Management, mass transit, and roadway build alternatives. The roadway build alternatives may range from a two-lane to a six-lane road and may include limited access and non-limited access (arterial) designs, and toll and non-toll lanes.

The EIS will evaluate potential direct, indirect, and cumulative impacts from construction and operation of the proposed project including, but not limited to, the following: Impacts or displacements to residents and businesses; detours; air and noise impacts from construction equipment, and operation of the project; water quality impacts from the construction area and from roadway storm water runoff; impacts to waters of the United States; impacts to historic and archeological resources; impacts to floodplains and irrigation canals; impacts to socio-economic resources (including environmental justice and limited English proficiency populations); indirect impacts; cumulative impacts; land use; regional and local economic interactions; vegetation including seagrass beds, dense thorn-scrub habitat, and riparian vegetation; wildlife; and aesthetic and visual resources.

The project may require the following approvals:

• Section 106, National Historic Preservation Act (NHPA)—Advisory Council on Historic Preservation (ACHP), Texas Historical Commission (THC), and State Historic Preservation Office (SHPO).

• Navigable Waterway Permit—United States Coast Guard (USCG).

• Section 404 Clean Water Act and Section 10 Rivers and Harbors Act—US Army Corps of Engineers (USACE).

• Section 7 Endangered Species Act—US Fish and Wildlife Service (USFWS) and National Oceanic and Atmospheric Administration, National Marine Fisheries Service (NOAA Fisheries).

• Magnuson-Stevens Fishery Conservation and Management Act (MSFCMA) and the Marine Mammal Protection Act—NOAA Fisheries.

• Section 402 Clean Water Act, National Pollutant Discharge Elimination System (NPDES)—US Environmental Protection Agency (USEPA).

• Section 401 Water Quality Certification—Texas Commission on Environmental Quality (TCEQ).

• Coastal Zone Management Program—General Land Office (GLO).

If a build alternative advances from the DEIS and FEIS, the actual approvals required may change after field surveys are completed and an alternative is selected for the project through a ROD.

A scoping meeting is an opportunity for participating agencies, cooperating agencies, and the public to be involved in defining the draft Need and Purpose for the proposed project, the range of alternatives for consideration in the draft EIS, and to comment on the methodologies to evaluate alternatives. The scoping meeting will also include a draft coordination plan and schedule for agency and public comment. A scoping meeting for the proposed project will be held in May 2008.

In addition to any scoping meetings, a series of meetings to solicit public comment will be held during the environmental review process. They will be held during appropriate phases of the project development process. Public notices will be given stating the date, time, and location of the meeting or hearing and will be published in English as well as Spanish. Provision will be made for those with special communication needs, including translation if requested. Correspondence will be sent to federal, state, and local agencies, and to organizations and individuals who have previously expressed or are known to have an interest in the project, which will describe the proposed project and solicit comments. Comments and suggestions from all interested parties are invited to ensure that the full range of issues related to the proposed project are identified and addressed. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program.)

Issued on: April 17, 2008.
Donald E. Davis,
District Engineer, Austin, Texas.

[FR Doc. E8-8783 Filed 4-22-08; 8:45 am]

BILLING CODE 4910-22-P